DEPARTMENT OF THE INTERIOR

National Park Service

[NPS-WASO-NRSS-18302; PPWONRADW1, PPMRSNR1Y.NW0000 (155)]

Proposed Information Collection; Comment Request; Cape Lookout National Seashore Cultural Resource Values and Vulnerabilities Assessment

AGENCY: National Park Service, Interior.

ACTION: Notice; request for comments.

SUMMARY: We (National Park Service) will ask the Office of Management and Budget (OMB) to approve the Information Collection (IC) described below. The National Park Service is exploring ways to reduce the risk of damage to structures and natural systems from destructive storm surge and sea level rise. We will collect information from stakeholders' about their values and perceptions of climate change-related vulnerabilities and adaptation strategies for managing cultural resources within the two historic districts (Portsmouth Village and Lookout Village) at Cape Lookout National Seashore (CALO). Stakeholders will be visitors at Portsmouth Village and Lookout Village, partner organizations, local community members with ties to the historic districts, federal, state and private cultural resource experts. This collection will be used to inform cultural resource adaptation planning efforts (i.e., maintenance, sustainability and post-storm recovery of historic structures and cemeteries) related to impacts of extreme weather events. To comply with the Paperwork Reduction Act of 1995, and as part of our continuing efforts to reduce paperwork and respondent burden, we invite the general public and other Federal agencies to take this opportunity to comment on this IC.

DATES: To ensure that your comments on this IC are considered, we must receive them on or before July 20, 2015.

ADDRESSES: Please send your comments to Phadrea Ponds, Information Collections Coordinator, National Park Service, 1201 Oakridge Drive, Fort Collins, CO 80525 (mail); or phadrea_ponds@nps.gov (email). Please reference Information Collection 1024—NEW, 2015 CALO SURVEY in the subject line.

FOR FURTHER INFORMATION CONTACT: Janet Cakir, Ph.D., NPS SER Climate Change, Socioeconomics, and Adaptation Coordinator, South Atlantic Landscape Conservation Cooperative, 1751 Varsity Dr., Raleigh, NC 27606 (mail) or janet_cakir@nps.gov (email).

I. Abstract

Managers of Cape Lookout National Seashore (CALO) are interested in identifying ways to reduce the risk of damage to coastal buildings and sensitive species from storm surge, sea level rise, and shoreline erosion anticipated over the next 20 to 30 years. Of specific interest to managers are contemporary cultural resource values and perceptions of cultural resource vulnerability and feasible adaptation strategies to sustain its cultural resources for future generations. The National Park Service (NPS) will conduct a survey of visitors to the two historic districts (Portsmouth Village and Lookout Village) at Cape Lookout National Seashore (CALO), a survey with members of CALO's partner organizations, interview local community members with connections to the historic districts, and conduct a survey with cultural resource experts from federal and state agencies and nongovernmental organizations.

The collection will be used to understand the values stakeholders place on cultural resources within the historic districts, and perceptions of strategies to adapt and respond to changes in cultural resource conditions from storms, flooding, and erosion. The information from this collection will provide NPS managers and planners with information that can be used to prepare resource management planning documents.

Lessons learned from this study may be applied to support cultural resource adaptation planning for units across the NPS system.

II. Data

OMB Control Number: None. This is a new collection.

Title: Cape Lookout National Seashore Cultural Resource Values and Vulnerabilities Assessment.

Type of Request: New.

Affected Public: Park Visitors, Local Residents, Partner Organization Members, State Cultural/Historic Resource Personnel, and Nongovernmental Cultural Resource Organization Personnel.

Respondent Obligation: Voluntary.

Frequency of Collection: One-time.

Estimated Number of Responses: 600.

Estimated Annual Burden Hours: 321. We estimate the public reporting burden for this collection will average 10 minutes per response for visitors; 15 minutes per response for partner organizations; 1 hour per response for community members, and 2.5 hours per response for cultural resource experts. This includes the time for reviewing instructions and completing the survey.

| Estimated number of responses | Estimated response time (minutes) | Estimated annual burden (hours)
Visitor Survey | 200 | 10 | 33
Partner Organization Survey | 200 | 15 | 50
Community Interviews | 50 | 60 | 50
Cultural Resource Experts Survey | 150 | 75 | 188
Total | 600 |  | 321

Estimated Annual Reporting and Recordkeeping “Non-Hour Cost”: None.

Public Disclosure Statement: The PRA (44 U.S.C. 3501, et seq.) provides that an agency may not conduct or sponsor and a person is not required to respond to a collection of information unless it displays a currently valid OMB control number and current expiration date.

III. Request for Comments

We invite comments concerning this IC on:

• Whether the proposed collection of information is necessary for the agency to perform its duties, including whether the information is useful;

• The accuracy of the agency's estimate of the burden of the proposed collection of information;

• Ways to enhance the quality, usefulness, and clarity of the information to be collected; and

• Ways to minimize the burden on the respondents, including the use of automated collection techniques or other forms of information technology.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 14, 2015.
Madonna Baucum,
Information Collection Clearance Officer, National Park Service.

[FR Doc. 2015-12306 Filed 5-20-15; 8:45 am]

BILLING CODE 4310-EH-P